DEPARTMENT OF TRANSPORTATION

Federal Aviation Administration

14 CFR Part 39

[Docket No. FAA-2021-0454; Project Identifier AD-2021-00006-R; Amendment 39-21740; AD 2021-20-02]

RIN 2120-AA64

Airworthiness Directives; Bell Textron Inc. (Type Certificate Previously Held by Bell Helicopter Textron Inc.) Helicopters

AGENCY: Federal Aviation Administration (FAA), DOT.

ACTION: Final rule.

SUMMARY: The FAA is adopting a new airworthiness directive (AD) for certain Bell Textron Inc. (type certificate previously held by Bell Helicopter Textron Inc.) Model 205B helicopters. This AD was prompted by a notification of certain parts needing a life limit. This AD requires determining the total hours time-in-service (TIS) of certain part-numbered main rotor grip assemblies (grip assemblies), establishing a life limit for certain part-numbered grip assemblies, removing from service any grip assembly that has reached or exceeded its retirement life, creating a component history card, and removing any grip assembly from service before reaching its retirement life. This AD also prohibits installing certain grip assemblies unless the life limit was established in accordance with this AD. The FAA is issuing this AD to address the unsafe condition on these products.

DATES: This AD is effective October 28, 2021.

Examining the AD Docket

You may examine the AD docket at https://www.regulations.gov by searching for and locating Docket No. FAA-2021-0454; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Kuethe Harmon, Safety Management Program Manager, Certification & Program Management Section, DSCO Branch, Compliance & Airworthiness Division, FAA, 10101 Hillwood Pkwy., Fort Worth, TX 76177; telephone (817) 222-5198; email kuethe.harmon@faa.gov.

SUPPLEMENTARY INFORMATION:

Background

The FAA issued a notice of proposed rulemaking (NPRM) to amend 14 CFR part 39 by adding an AD that would apply to Bell Textron Inc. Model 205B helicopters with grip assembly part number (P/N) 204-011-121-005, P/N 204-011-121-113, or P/N 204-011-121-117 installed. The NPRM published in the Federal Register on June 10, 2021 (86 FR 30824). The NPRM was prompted by a notification from Bell of established life limits for certain part numbered grip assemblies that were not included in Chapter 4, Airworthiness Limitations Schedule (ALS) of Bell Helicopter 205B Maintenance Manual BHT-205B-MM-1, Revision 1, dated July 15, 1993. Bell states the life limit of 9,000 hours TIS for grip assembly part number (P/N) 204-011-121-005, P/N 204-011-121-113, and P/N 204-011-121-117 was left out of the ALS for Model 205B helicopters. Bell states this may suggest that these part numbers have an unlimited life when installed on Model 205B helicopters, whereas the retirement life is 9,000 hours TIS. This condition, if not addressed, could result in fatigue and failure of the grip assembly and loss of control of the helicopter.

Accordingly, Bell specifies updating the existing ALS to establish a life limit of 9,000 hours TIS for grip assembly P/N 204-011-121-005, P/N 204-011-121-113, and P/N 204-011-121-117. The FAA is issuing this AD to address the unsafe condition on these products.

Discussion of Final Airworthiness Directive

Comments

The FAA received comments from one commenter. The following presents the comment received on the NPRM and the FAA's response.

Request To Correct a Typographical Error

The European Union Aviation Safety Agency requested the FAA revise references made to a certain grip assembly P/N, which is listed incorrectly in two instances in the Background section of the NPRM. The FAA agrees. The Background section of the NPRM contained two typographical errors in which the FAA incorrectly stated the affected grip assemblies with life limits omitted from the ALS for Model 205B helicopters are grip assembly P/N 204-011-121-005, P/N 204-011-121-113, and P/N 204-011-121-005. However, the affected grip assembly part numbers are P/N 204-011-121-005, P/N 204-011-121-113, and P/N 204-011-121-117. The FAA has revised the Background paragraph of this final rule accordingly.

Conclusion

The FAA reviewed the relevant data and determined that air safety requires adopting this AD as proposed. Accordingly, the FAA is issuing this AD to address the unsafe condition on these products. Except for the minor editorial change described above, this AD is adopted as proposed in the NPRM. This change, which corrects a typographical error in the Background section of the NPRM, does not increase the scope of the AD.

Costs of Compliance

The FAA estimates that this AD affects 2 helicopters of U.S. registry. The FAA estimates that operators may incur the following costs to comply with this AD. Labor costs are estimated at $85 per work-hour.

Determining the total hours TIS of each grip assembly and updating the helicopter records takes about 1 work-hour for each grip assembly, for an estimated cost of $85 per helicopter and $170 for the U.S fleet.

Replacing each grip assembly takes about 16 work-hours and parts cost about $50,000, for an estimated cost of $51,360 per grip assembly.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-20-02 Bell Textron Inc. (Type Certificate Previously Held by Bell Helicopter Textron Inc.): Amendment 39-21740; Docket No. FAA-2021-0454; Project Identifier AD-2021-00006-R.

(a) Effective Date

This airworthiness directive (AD) is effective October 28, 2021.

(b) Affected ADs

None.

(c) Applicability

This AD applies to Bell Textron Inc. (type certificate previously held by Bell Helicopter Textron Inc.) Model 205B helicopters, certificated in any category, with main rotor grip assembly (grip assembly) part number (P/N) 204-011-121-005, P/N 204-011-121-113, or P/N 204-011-121-117 installed.

(d) Subject

Joint Aircraft System Component (JASC) Code: 6220, Main Rotor Head.

(e) Unsafe Condition

This AD was prompted by a notification of certain parts needing a life limit. The FAA is issuing this AD to prevent a grip assembly remaining in service beyond its fatigue life. The unsafe condition, if not addressed, could result in fatigue and failure of the grip assembly and loss of helicopter control.

(f) Compliance

Comply with this AD within the compliance times specified, unless already done.

(g) Required Actions

(1) Before further flight after the effective date of this AD, determine the total hours time-in-service (TIS) of any grip assembly having P/N 204-011-121-005, P/N 204-011-121-113, or P/N 204-011-121-117. Remove from service any grip assembly that has accumulated or exceeded 9,000 total hours TIS. For each grip assembly that has accumulated less than 9,000 total hours TIS, do the following:

(i) Create a component history card or equivalent record to establish a life limit of 9,000 total hours TIS.

(ii) Thereafter, remove from service any grip assembly before it accumulates 9,000 total hours TIS.

(2) Thereafter, no alternative life limits may be approved for any grip assembly P/N 204-011-121-005, P/N 204-011-121-113, or P/N 204-011-121-117.

(3) As of the effective date of this AD, do not install any grip assembly having P/N 204-011-121-005, P/N 204-011-121-113, or P/N 204-011-121-117 on any Model 205B helicopter unless the life limit is established in accordance with this AD.

(h) Special Flight Permits

Special flight permits are prohibited.

(i) Alternative Methods of Compliance (AMOCs)

(1) The Manager, DSCO Branch, FAA, has the authority to approve AMOCs for this AD, if requested using the procedures found in 14 CFR 39.19. In accordance with 14 CFR 39.19, send your request to your principal inspector or local Flight Standards District Office, as appropriate. If sending information directly to the manager of the DSCO Branch, send it to the attention of the person identified in paragraph (j) of this AD. Information may be emailed to: 9-ASW-190-COS@faa.gov.

(2) Before using any approved AMOC, notify your appropriate principal inspector, or lacking a principal inspector, the manager of the local flight standards district office/certificate holding district office.

(j) Related Information

For more information about this AD, contact Kuethe Harmon, Safety Management Program Manager, Certification & Program Management Section, DSCO Branch, Compliance & Airworthiness Division, FAA, 10101 Hillwood Pkwy., Fort Worth, TX 76177; telephone (817) 222-5198; email kuethe.harmon@faa.gov.

(k) Material Incorporated by Reference

None.

Issued on September 15, 2021.
Gaetano A. Sciortino,
Deputy Director for Strategic Initiatives, Compliance & Airworthiness Division, Aircraft Certification Service.

[FR Doc. 2021-20408 Filed 9-22-21; 8:45 am]

BILLING CODE 4910-13-P